DEPARTMENT OF HEALTH AND HUMAN SERVICES

Food and Drug Administration

Advisory Committee; Risk Communication Advisory Committee; Establishment

AGENCY: Food and Drug Administration

ACTION: Notice of establishment.

Under the Federal Advisory Committee Act, as amended (5 U.S.C. Appendix 2), the Commissioner of Food and Drugs (the Commissioner), announces the establishment of the Risk Communication Advisory Committee. The Commissioner has determined that it is in the public interest to establish such a committee.

The Risk Communication Advisory Committee shall provide advice to the Commissioner or designee on strategies and programs designed to communicate with the public about both the risks and benefits of Food and Drug Administration (FDA)-regulated products so as to facilitate optimal use of these products. The committee also reviews and evaluates research relevant to such communication to the public by both FDA and other entities. It also facilitates interactively sharing risk and benefit information with the public to enable people to make informed independent judgments about use of FDA-regulated products. Duration of this committee is 2 years from the date the Charter is filed, unless the Commissioner formally determines that renewal is in the public interest.

The Risk Communication Advisory Committee will be composed of a core of 15 voting members including the Chair. Members and the Chair are selected by the Commissioner or designee from among authorities knowledgeable in the fields of risk communication, social marketing, health literacy, cultural competency, journalism, bioethics, and other relevant behavioral and social sciences. Some members will be selected to provide experience-based insights on the communications needs of the various groups who use FDA-regulated products. The latter may include patients and patients' family members, health professional, communicators in health, medicine and science, persons affiliated with consumer, specific disease, or patient safety advocacy groups. Depending on the meeting topic(s), at least one nonvoting member identified with relevant industry interests may be invited from existing members of other FDA Advisory Committees.

FOR FURTHER INFORMATION CONTACT: Lee Zwanziger, Office of Planning, Office of the Commissioner (HFP-1), Food and Drug Administration, 5600 Fishers Lane, Rockville, MD 20857, 301-827-2895, FAX: 301-827-5260, or rcac@fda.hhs.gov.

SUPPLEMENTARY INFORMATION: Elsewhere in this issue of the Federal Register, FDA is publishing a request for nominations for advisory committee members and notice of a change to the advisory committee telephone information line adding the establishment of the Risk Communication Advisory Committee. FDA plans to publish in the near future a final rule adding the Risk Communication Advisory Committee to the list of FDA standing advisory committees in 21 CFR 14.100.

Dated: May 28, 2007.
Randall W. Lutter,
Associate Commissioner for Policy and Planning.

[FR Doc. E7-10740 Filed 6-4-07; 8:45 am]

BILLING CODE 4160-01-S